DEPARTMENT OF ENERGY

Notice of Orders Issued Under Section 3 of the Natural Gas Act During June 2019

| FE Docket Nos.
CHEVRON U.S.A. INC | 19-28-LNG
REPSOL ENERGY NORTH AMERICA CORPORATION | 19-43-NG
EMERA ENERGY SERVICES | 19-63-NG
HUDSON ENERGY SERVICES, LLC | 19-66-NG
CITY OF PASADENA | 19-67-NG
BIG SKY GAS LLC | 19-73-NG

AGENCY: Office of Fossil Energy, Department of Energy.

ACTION: Notice of orders.

SUMMARY: The Office of Fossil Energy (FE) of the Department of Energy gives notice that during May 2019, it issued orders granting authority to import and export natural gas, to import and export liquefied natural gas (LNG), and vacating prior authorization. These orders are summarized in the attached appendix and may be found on the FE website at https://www.energy.gov/fe/listing-doefe-authorizationsorders-issued-2019.

They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9478. The Docket Room is open between the hours of 8:00 a.m. and 4:30 p.m., Monday through Friday, except Federal holidays.

Signed in Washington, DC, on July 25, 2019.
Amy Sweeney,
Director, Office of Regulation, Analysis, and Engagement, Office of Oil and Natural Gas.

Appendix

DOE/FE Orders Granting Import/Export Authorizations
4396 | 06/11/19 | 19-28-LNG | Chevron U.S.A. Inc | Order 4396 granting blanket authority to export previously imported LNG by vessel to Free Trade Agreement Nations and Non-Free Trade Agreement Nations.
4397 | 06/11/19 | 19-43-NG | Repsol Energy North America Corporation | Order 4397 granting blanket authority to import/export natural gas from/to Mexico, to import/export LNG from/to Mexico by truck/vessel, to export natural gas to Canada, and vacating prior authorization, Order 4074.
4398 | 06/11/19 | 19-63-NG | Emera Energy Services | Order 4398 granting blanket authority to import/export natural gas from/to Canada.
4399 | 06/11/19 | 19-66-NG | Hudson Energy Services, LLC | Order 4399 granting blanket authority to import/export natural gas from/to Canada.
4400 | 06/11/19 | 19-67-NG | City of Pasadena | Order 4400 granting blanket authority to import/export natural gas from/to Canada.
4401 | 06/18/19 | 19-73-NG | Big Sky Gas LLC | Order 4401 granting blanket authority to import natural gas from Canada.

[FR Doc. 2019-16261 Filed 7-30-19; 8:45 am]

BILLING CODE 6450-01-P